DEPARTMENT OF COMMERCE

National Oceanic and Atmospheric Administration

RIN 0648-XD002

Marine Mammals; File No. 18182

AGENCY: National Marine Fisheries Service (NMFS), National Oceanic and Atmospheric Administration (NOAA), Commerce.

ACTION: Issuance of permit.

SUMMARY: Notice is hereby given that Marilyn Mazzoil, Harbor Branch Oceanographic Institute at Florida Atlantic University, 5600 US 1 North, Fort Pierce, Florida 34946 has been issued a permit to take bottlenose dolphins (Tursiops truncatus) for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave South, St. Petersburg, FL 33701; phone (727) 824-5312; fax (727) 824-5309.

FOR FURTHER INFORMATION CONTACT: Courtney Smith or Amy Hapeman, (301) 427-8401.

SUPPLEMENTARY INFORMATION: On 27 November 2013, notice was published in the Federal Register (78 FR 70920) that a request for a scientific research permit to take bottlenose dolphins had been submitted by the above-named individual. The requested permit has been issued under the authority of the Marine Mammal Protection Act of 1972, as amended (MMPA; 16 U.S.C. 1361 et seq.) and the regulations governing the taking and importing of marine mammals (50 CFR part 216).

Ms. Mazzoil has been issued a permit to study and determine: (1) Abundance estimation; (2) occurrence and distribution; (3) behavioral information; and (4) population structure and life history parameters of bottlenose dolphins along the east coast of Florida, from Fernandina Beach to Jupiter. Researchers may take dolphins during vessel surveys for counts, photo-identification, focal follows, observation, and biopsy sampling. The permit expires on March 10, 2019.

Issuance of this permit, as required by the MMPA, was based on a finding that such permit (1) was applied for in good faith, (2) will not operate to the disadvantage of such endangered or threatened species, and (3) is consistent with the purposes and policies set forth in the MMPA.

In compliance with the National Environmental Policy Act of 1969 (42 U.S.C. 4321 et seq.), a final determination has been made that the activity proposed is categorically excluded from the requirement to prepare an environmental assessment or environmental impact statement.

Dated: March 10, 2014.
Perry F. Gayaldo,
Acting Deputy Director, Office of Protected Resources, National Marine Fisheries Service.

[FR Doc. 2014-05705 Filed 3-13-14; 8:45 am]

BILLING CODE 3510-22-P